Proclamation 9127 of May 16, 2014

Emergency Medical Services Week, 2014

By the President of the United States of America

A Proclamation

Wherever and whenever crisis hits, the men and women of our emergency medical services (EMS) rush to the scene. With unyielding steadiness, they bring care to those who need it most. During Emergency Medical Services Week, we show our gratitude to the EMS practitioners who aid our families, friends, and neighbors in their darkest moments.

We saw their professionalism in action after a devastating storm hit Vilonia, Arkansas. Immediately after a tornado struck, 200 people, including EMS personnel from other counties, were ready to go house to house searching for injured neighbors. We saw it after last month's mudslide in Washington State when first responders and rescue crews braved unsteady ground to search for survivors. And we see it in towns and cities across America every hour of every day. My Administration is dedicated to supporting the vital work of our paramedics, emergency medical technicians, 911 dispatchers, and EMS medical directors.

This week, we thank the EMS providers who ease suffering and so often mean the difference between life and death. Let us honor their service with a renewed commitment to them. Let us ensure that those who watch over our communities have the support they need to get the job done.

NOW, THEREFORE, I, BARACK OBAMA, President of the United States of America, by virtue of the authority vested in me by the Constitution and the laws of the United States, do hereby proclaim May 18 through May 24, 2014, as Emergency Medical Services Week. I encourage all Americans to observe this occasion by showing their support for their local EMS providers and taking steps to improve their personal safety and preparedness.

IN WITNESS WHEREOF, I have hereunto set my hand this sixteenth day of May, in the year of our Lord two thousand fourteen, and of the Independence of the United States of America the two hundred and thirty-eighth.

[FR Doc. 2014-11932

Filed 5-20-14; 11:15 am]

Billing code 3295-F4